DEPARTMENT OF THE INTERIOR

Bureau of Indian Affairs

Indian Gaming

AGENCY: Bureau of Indian Affairs, Interior.

ACTION: Notice of approved Tribal-State Compacts.

SUMMARY: Under section 11 of the Indian Gaming Regulatory Act of 1988 (IGRA), Public Law 100-497, 25 U.S.C. 2710, the Secretary of the Interior shall publish, in the Federal Register, notice of approved Tribal-State Compacts for the purpose of engaging in Class III gaming activities on Indian lands. The Assistant Secretary b Indian Affairs, Department of the Interior, through her delegated authority, has approved the Tribal-State Compacts between the Colorado River Indian Tribes and the State of Arizona and between the Zuni Tribe and the State of Arizona. These Compacts expand the scope of gaming activities authorized under the Compacts, increases wager limits, increases the number of permitted gaming devices, and allows the tribes to enter into gaming device transfer agreements with one or more gaming tribes.

EFFECTIVE DATE: July 3, 2003.

FOR FURTHER INFORMATION CONTACT: George T. Skibine, Director, Office of Indian Gaming Management, Bureau of Indian Affairs, Washington, DC 20240, (202) 219-4066.

Dated: June 18, 2003.
Aurene M. Martin,
Acting Assistant Secretary—Indian Affairs.

[FR Doc. 03-16826 Filed 7-2-03; 8:45 am]

BILLING CODE 4310-4N-M